DEPARTMENT OF AGRICULTURE

Commodity Credit Corporation

Farm Service Agency

Final Environmental Assessment and Mitigated Finding of No Significant Impact; Giant Miscanthus in Arkansas, Missouri, Ohio, and Pennsylvania

AGENCY: Commodity Credit Corporation and Farm Service Agency, USDA.

ACTION: Notice; Mitigated Finding of No Significant Impact.

SUMMARY: This notice announces the final environmental assessment (EA) that includes a mitigated finding of no significant impact (FONSI) for the proposed establishment and production of giant miscanthus (Miscanthus X giganteus) as a dedicated energy crop to be grown in the Aloterra Energy and MFA Oil Biomass Company (project sponsors) proposed project areas in Arkansas, Missouri, Ohio, and Pennsylvania as part of the Biomass Crop Assistance Program (BCAP). Based on comments received on the draft and in consultation with NRCS and ARS, FSA developed and included a finalized mitigation and monitoring plan as a part of the final EA.

ADDRESSES: For a copy of mitigated FONSI, which is in the final EA, by any following methods:

• Through the FSA home page at http://www.fsa.usda.gov/FSA/webapp?area=home&subject=ecrc&topic=nep-cd;

• E-mail: rschneider@intenvsol.com, with the following subject line: “Request for copy FONSI and final Giant Miscanthus EA”;

• Write to: Giant Miscanthus EA Copies, Integrated Environmental Solutions, LLC, 2150 S Central Expy, Ste 110, McKinney, TX 75070.

FOR FURTHER INFORMATION CONTACT: Matthew Ponish, (202) 720-6853. Persons with disabilities who require alternative means for communication (braille, large print, audio tape, etc.) should contact the USDA Target Center at (202) 720-2600 (voice and TDD).

SUPPLEMENTARY INFORMATION:

The Aloterra Energy and MFA Oil Biomass Company submitted a proposal to the Farm Service Agency (FSA) to establish BCAP project areas in Arkansas, Missouri, Ohio, and Pennsylvania. The proposal is to establish and produce giant miscanthus as a dedicated energy crop. FSA analyzed the potential environmental impacts of growing giant miscanthus in those areas in the final EA. FSA reviewed and considered all comments submitted on the draft EA in response to the notice published in the Federal Register on April 8, 2011 (76 FR 19741) and used additional inputs from the Natural Resources Conservation Service (NRCS) and the Agricultural Research Service (ARS) in developing the final EA and the mitigation and monitoring plan as described in this notice. In the final EA, FSA has issued a mitigated FONSI on the proposal.

The final EA and mitigation and monitoring plan for the proposed BCAP project areas supporting the establishment and production of Giant Miscanthus (Miscanthus X giganteus) in Arkansas, Missouri, Ohio, and Pennsylvania sponsored by Aloterra Energy LLC and MFA Oil Biomass LLC is now available.

Comments Received

FSA received 54 comments on the draft EA from Federal agencies, State agencies, non-governmental organizations, and individuals. Of those comments, 37 commenters supported the proposal and 10 were against the proposal. In the comments, 280 issues were raised concerning many resource topics, National Environmental Policy Act (NEPA) requirements, and BCAP issues. Multiple commenters included air quality; biodiversity; invasiveness; land use changes; long-term monitoring and mitigation; mitigation measures; pests and diseases; seed sterility; species of concern and State-listed protected species; water quality; and water use. The comments were addressed and are included as an appendix to the Final EA.

The comments, as well as consultation with NRCS and ARS, provided the basis for the mitigation measures and monitoring activities that will occur within each project area. More site-specific measures, which may be more stringent than the overall project area measures, depending upon the individual contract acreage and the project area, will be identified during the development of the individual producer's conservation plan, developed with the assistance of a qualified technical service provider.

The Record of Decision for the Final BCAP Programmatic Environmental Impact Statement published in the Federal Register on October 27, 2010 (75 FR 65995-66007) is incorporated by reference in the EA. FSA considered the conditions specified in the record of decision and comments to the draft EA, as a result, FSA determined that it should do an EA to make a determination about whether there could be significant environmental impacts. The findings of the Final EA and mitigation and monitoring plan are summarized below.

Decision

FSA, on behalf of the Commodity Credit Corporation (CCC), has prepared an EA to evaluate the environmental consequences associated with establishing BCAP project areas that support the establishment and production of giant miscanthus (Miscanthus X giganteus) on 50,000 acres per proposed project area (200,000 acres total) by 2014. BCAP is a program authorized by the Food, Conservation, and Energy Act of 2008 (Pub. L. 110-246, commonly referred to as the 2008 Farm Bill) that provides financial assistance to contract producers in approved project areas for the establishment and production of perennial bioenergy crops and annual bioenergy crops that show exceptional promise for producing bioenergy or biofuels that preserve natural resources and that are not primarily grown for food or animal feed.

The purpose of the Proposed Action is to support the establishment and production of giant miscanthus as a crop for energy production to be grown by BCAP participants in the project areas proposed in Arkansas, Missouri, Ohio, and Pennsylvania. The need for the Proposed Action is to provide renewable biomass feedstock to a Biomass Conversion Facility (BCF) for use in energy production with and potentially outside the immediate region(s).

Proposed Action

Aloterra Energy LLC and MFA Oil Biomass LLC (project sponsors) are proposing that FSA establishes BCAP project areas that support the establishment and production of giant miscanthus on 50,000 acres per proposed project area (200,000 total acres) by 2014, with crop longevity of 20 to 30 years. The acreage projected to be enrolled within the proposed project areas are marginal croplands and pastureland.

The proposed project areas are located in four States in four distinct proposed project areas. Missouri contains two proposed project areas: Columbia and Aurora. Arkansas contains one proposed project area: Paragould. Ohio and Pennsylvania contain the final proposed project area: Ashtabula. Each proposed project area is named for the approximate location of the BCF that will be used to process the giant miscanthus biomass into pellets to be shipped to other location. Each proposed project area was developed at an approximate 50-mile radius from the approximate BCAP location in that area.

The establishment and production of giant miscanthus would begin with centralized propagation acres on each farm, which would be distributed to plantation acres during the next growing season. During the 2011 planting season, the initial establishment would require a centralized location within each proposed project area with center-pivot irrigation due to the timing of planting and current climatic conditions occurring during the growing season. The centralized propagation area for the entire proposed project area would only occur for the 2011 planting season; all other planting seasons would follow the on-farm model with the initial establishment of propagation acres, followed by plantation acres the following growing season.

Equipment to be used to establish giant miscanthus would be modified equipment from existing perennial grass industries. Equipment used to harvest and bale giant miscanthus would be similar to existing types of agricultural machinery used for hay crops; however, they would need to be more heavy-duty due to the increased biomass amounts being harvested and baled.

Reasons for Mitigated Finding of No Significant Impact

In consideration of the analysis documented in the EA and the reasons outlined in the FONSI, the Proposed Action would not constitute a major Federal action that would significantly affect the human environment. Therefore, an environmental impact statement (EIS) will not be prepared. The determination is based on the following:

1. The Proposed Action as outlined in the EA would provide minor beneficial effects to socioeconomics, soil resources, and water quality and quantity of the local areas due to diversified agricultural production, establishment of perennial vegetation on highly erodible soils, and estimated higher water use efficiency of the species to be established.

2. The Proposed Action could result in minor negative effects from land use changes associated with marginal and idle croplands and pasturelands returning to agricultural production; vegetation composition on pasturelands, which in turn could alter wildlife habitat, and water quantity due to increased water use of the species when compared to annual species, such as traditional row crops. The potential negative effects would be minimized through the use of the mitigation and monitoring plan, described below and in the EA.

3. The Proposed Action would require site specific environmental screening for each producer contract initiated with FSA for inclusion as a producer within the proposed project areas. The environmental screening would identify either the field level resources that would be needed to be avoided or the effects could be minimized through mitigation efforts as described in the EA.

4. The potential beneficial and adverse impacts of implementing the Proposed Action have been fully considered within the EA. No significant adverse direct or indirect effects were identified, based on the resource analyses provided.

5. The Proposed Action would not involve effects to the quality of the human environment that are likely to be highly controversial.

6. The Proposed Action would not establish a precedent for future actions with significant effects and does not represent a decision in principle about a future consideration.

7. The Proposed Action does not result in cumulative significant impacts when considered with other actions that also individually have insignificant impacts. Cumulative impacts of implementing the Proposed Action were determined to be not significant.

8. The Proposed Action would not have adverse effects on threatened or endangered species or designated critical habitat since site specific analyses would be undertaken for each producer contract within each proposed BCAP project area to avoid adverse effects to the protected species.

9. The Proposed Action does not threaten a violation of Federal, State, or local law or requirements imposed for the protection of the environment.

Overview of the Mitigation and Monitoring Plan

To avoid more than minor adverse effects to the human and natural environment, a mitigation and monitoring plan was developed to address each of the resource areas analyzed in detail within the EA. One of the primary components of the mitigation and monitoring plan is producer education. The education component, to be held twice annually for active producers with an orientation program for new producers, outlines best practice standards across an array of resource areas and topics to ensure effective establishment and management of the giant miscanthus fields. In addition to the educational component, producers will be required to submit annual reports to the Project Sponsors detailing many aspects of production and allows for a greater understanding of how this species will grow in a production setting. More specifically, FSA, with cooperation from NRCS, ARS and the project sponsors, is proposing the following mitigation and monitoring measures. The following mitigation and monitoring measures have been developed based on the current literature and in some cases, conservative estimates relating to existing standards for other conservation programs and practices, but not specified to giant miscanthus.

• Biannual producer meetings to discuss new developments in production, management, pest and disease treatment, and eradication.

• New producer orientation to discuss production methods; management activities; potential for spread of giant miscanthus, treatment methods, and responsibilities; pest and disease identification, treatment methods, and responsibilities; eradication methods, if necessary; and reporting requirements.

• Producer Conservation Plans to include site specific best management practices (BMPs), which could include, but not be limited to, NRCS Conservation Practice Standards (CPS) for soil erosion, pesticide use and application, fertilizer use and application, and other relevant areas for each specific site.

• Setbacks and buffers to manage the giant miscanthus stand and to prevent unintentional spread of the giant miscanthus follow all local, state, or Federal regulations for containment of biomass plantings in the existence at the time of development of the producer's conservation plan or through an amendment of the conservation plan initiated by the producer and approved by FSA and NRCS, if determined appropriate for the site-specific conditions. If no such guidance exists, minimum procedures to prevent unintentional spread of giant miscanthus include the following:

○ Establish or maintain a minimum 25 feet of setback or border around a giant miscanthus stand, unless the field is adjacent to existing cropland or actively managed pasture with the same operator.

○ Setback or border areas may be planted to an annual row crop such as corn or soybeans; may be planted to a site-adapted, perennial cool-season or warm-season forage or turf grass; may be kept in existing vegetation; or kept clear by disking, rotovating, or treating with a non-selective burn down herbicide at least once a year. The method used may be dependent on slope and the potential for erosion.

• Use only the sterile variety of giant miscanthus cultivar known as the “Illinois Clone” within the proposed project areas; all Illinois Clone cultivars must be approved for planting under Aloterra's membership through the Ohio Seed Improvement Association's Quality Assurance program.

• Initiate a seed sampling program to determine the on-going sterility of seeds produced from the acres within the project areas. The seed sampling program includes recommended actions specified in the mitigation and monitoring plan, including eradication, if a seed sample returns viable seed.

• Exclusion of planting giant miscanthus on certain acreage within the project areas, depending upon certain site-specific conditions specified in the mitigation and monitoring plan, like those lands subject to frequest flooding events.

• Develop monitoring program to identify:

(1) Notify both United States Department of Agriculture (USDA) and the project sponsors of any spread of giant miscanthus outside of planted fields as soon as possible after identification of the spread,

(2) Notify the project sponsors of the identification of diseases and pests as soon as possible after identification and;

(3) Include wildlife use or changes in use in the annual producer report specify all; a USDA representative will conduct an annual field visit to monitor the site and to look for potential spread of Miscanthus beyond the site and;

(4) USDA will work with local weed control districts to provide additional monitoring and evaluation of the sites as appropriate.

• Annual producer reporting, to include land use tracking with the average and total size of enrolled fields; prior land use; rationale for land use change; spread of giant miscanthus outside of planted fields; any pests or diseases identification; the use of pesticides or herbicides to control unwanted spread of giant miscanthus or pests or diseases; BMP and CPS incorporated into field management, such as erosion control structures or materials, vegetative barriers, etc.; fertilizer usage and application methods; and cost data.

Determination

In accordance with NEPA and FSA environmental regulations at 7 CFR part 799 that implemented the regulation of the Council on Environmental Quality (40 CFR parts 1500-1508), I find that the Proposed Action and associated mitigation measures do not constitute a major Federal action significantly affecting the quality of the human environment. Therefore, no environmental impact statement will be prepared.

I make these findings and determination today, May 23, 2011, in Washington, DC, effective immediately. This notice will be published on our Web site and in the Federal Register.

Signed: May 20, 2011.
Bruce Nelson,
Acting Executive Vice President, Commodity Credit Corporation, and Acting Administrator, Farm Service Agency.

[FR Doc. 2011-13094 Filed 5-25-11; 8:45 am]

BILLING CODE 3410-05-P